INTERNATIONAL TRADE COMMISSION

[Investigation No. 731-TA-1410 (Final)]

Rubber Bands From Thailand; Supplemental Schedule for the Subject Investigation

AGENCY: United States International Trade Commission.

ACTION: Notice.

DATES: Effective Date: March 7, 2019.

FOR FURTHER INFORMATION CONTACT: Christopher W. Robinson (202-205-2542), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective August 29, 2018, the Commission established a general schedule for the conduct of the final phase of its investigations on rubber bands from China and Thailand ¹ following preliminary determinations by the U.S. Department of Commerce (“Commerce”) that imports of rubber bands were subsidized by the government of China,² and that imports of rubber bands from China and Thailand were being, or were likely to be, sold in the United States at less than fair value (LTFV) within the meaning of section 733 of the Act (19 U.S.C. 1673b).³ Commerce also made a preliminary negative countervailing duty determination regarding imports of rubber bands from Thailand.⁴ Notice of the scheduling of the final phase of the Commission's investigations and of a public hearing held in connection therewith was given by posting copies of the notice in the Office of the Secretary, U.S. International Trade Commission, Washington, DC, and by publishing the notice in the Federal Register on September 17, 2018 (83 FR 46969). The hearing was held in Washington, DC, on November 13, 2018, and all persons who requested the opportunity were permitted to appear in person or by counsel. Following affirmative final determinations by Commerce regarding LTFV and subsidized imports of rubber bands from China,⁵ the Commission issued its final determinations that an industry in the United States was materially injured by reason of LTFV and subsidized imports of rubber bands from China.⁶

¹ Rubber Bands From China and Thailand; Scheduling of the Final Phase of Countervailing Duty and Anti-Dumping Duty Investigations, 83 FR 46969, September 17, 2018.

² Rubber Bands From the People's Republic of China: Preliminary Affirmative Countervailing Duty Determination and Alignment of Final Determination With Final Antidumping Determination, 83 FR 31729, July 9, 2018.

³ Less-Than-Fair-Value Investigation of Rubber Bands From the People's Republic of China: Preliminary Affirmative Determination of Sales at Less Than Fair Value and Preliminary Affirmative Determination of Critical Circumstances, 83 FR 45213, September 6, 2018; Rubber Bands From Thailand: Preliminary Affirmative Determination of Sales at Less Than Fair Value, Postponement of Final Determination, and Extension of Provisional Measure, 83 FR 45220, September 6, 2018.

⁴ Rubber Bands From Thailand: Preliminary Negative Countervailing Duty Determination and Alignment of Final Determination With Final Antidumping Duty Determination, 83 FR 31728, July 9, 2018.

⁵ Rubber Bands From the People's Republic of China: Final Affirmative Countervailing Duty Determination, 83 FR 58538, November 20, 2018; Rubber Bands From the People's Republic of China: Final Determination of Sales at Less Than Fair Value, 83 FR 58547; November 20, 2018.

⁶ Rubber Bands From China; Determinations, 84 FR 4534, February 15, 2019.

Commerce has issued a final affirmative antidumping duty determination and a final negative countervailing duty determination with respect to rubber bands from Thailand.⁷ Accordingly, the Commission currently is issuing a supplemental schedule for its antidumping investigation of imports of rubber bands from Thailand. This supplemental schedule is as follows: The deadline for filing supplemental party comments on Commerce's final antidumping duty determination is March 19, 2019; the staff report in the final phase of this investigation will be placed in the nonpublic record on April 1, 2019; and a public version will be issued thereafter.

⁷ Rubber Bands From Thailand: Final Determination of Sales at Less Than Fair Value, 84 FR 8304, March 7, 2019; Rubber Bands From Thailand: Final Negative Countervailing Duty Determination, 84 FR 8302, March 7, 2019. Accordingly, the Commission will be terminating its countervailing duty investigation with respect to imports of rubber bands from Thailand.

Supplemental party comments may address only Commerce's final antidumping duty determination regarding rubber bands from Thailand. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: March 11, 2019.
Katherine Hiner,
Acting Secretary to the Commission.

[FR Doc. 2019-06070 Filed 3-28-19; 8:45 am]

BILLING CODE 7020-02-P